DEPARTMENT OF ENERGY

Federal Energy Regulatory Commission

[ Project Nos. 1175-015, 1290-012]

Appalachian Power Company; Notice of Application Tendered for Filing With the Commission and Establishing Procedural Schedule for Licensing and Deadline for Submission of Final Amendments

Take notice that the following hydroelectric application has been filed with the Commission and is available for public inspection.

Type of Application: New Major Licenses.

Project Nos.: 1175-015 and 1290-012.

Date Filed: January 31, 2012.

Applicant: Appalachian Power Company.

Name of Project: London/Marmet and Winfield Hydroelectric Projects.

Location: The existing projects are located on the Kanawha River. The London/Marmet Project is located in Fayette and Kanawha Counties, West Virginia, and the Winfield Project is located in Kanawha and Putnam Counties, West Virginia. The London/Marmet and Winfield Projects would occupy 11.71 and 8.25 acres, respectively, of federal land managed by the U.S. Army Corp of Engineers.

Filed Pursuant to: Federal Power Act, 16 U.S.C. 791 (a)-825(r).

Applicant Contact: Harold G. Slone, Manager, Appalachian Power Company, 40 Franklin Road, Roanoke, VA 24011; Telephone (540) 985-2861.

FERC Contact: Brandi Sangunett, (202) 502-8393 or brandi.sangunett@ferc.gov.

This application is not ready for environmental analysis at this time.

The existing project works consists of the following:

The London/Marmet Project consists of two developments. The existing London Development utilizes the head created by the Army Corps of Engineers' (Corps) 26-foot-high London Dam located at river mile (RM) 82.8 on the Kanawha River and consists of: (1) A forebay area protected by a log boom; (2) screened intake structures; (3) a concrete powerhouse containing three turbine-generator units with a total installed capacity of 14.4 megawatts (MW); (4) a tailrace 420 feet long; (5) a substation containing two, three-phase transformers and two auxiliary transformers; (6) two, 0.38-mile-long, 46-kilovolt (kV) transmission lines; and (7) other appurtenances. The development generates about 84,048 megawatt-hours (MWh) annually.

The existing Marmet Development utilizes the head created by the Corps' 34-foot-high Marmet Dam located at RM 67.7 on the Kanawha River and consists of: (1) A forebay area protected by a log boom; (2) screened intake structures; (3) a concrete powerhouse containing three turbine-generator units with a total installed capacity of 14.4 MW; (4) a tailrace 450 feet long; (5) a substation containing two, three-phase transformers and two auxiliary transformers; (6) two, 0.78-mile-long, 46-kV transmission lines; and (7) other appurtenances. The development generates about 82,302 MWh annually.

The London/Marmet Project has a total installed capacity of 28.8 MW and generates about 166,350 MWh annually.

The existing Winfield Project utilizes the head created by the Corps' 38-foot-high Winfield Dam located at RM 31.1 on the Kanawha River and consists of: (1) A forebay area protected by a 410-foot-long log boom; (2) screened intake structures; (3) a concrete powerhouse containing three turbine-generator units with a total installed capacity of 14.76 MW; (4) a tailrace 410 feet long; (5) a substation containing a generator step-up bank of three transformers and three auxiliary transformers; (6) a 3.7-mile-long, 69-kV transmission line; and (7) other appurtenances. The project generates about 114,090 MWh annually.

The above hydroelectric facilities' operation is synchronized with the operation of the Corps' locks at each dam. The developments at each of the two projects operate within allowable pool elevation limits as established by the Corps. The London pool elevation is allowed to fluctuate between 611.0 feet and 614.0 feet National Geodetic Vertical Datum 1929 (NGVD). The Marmet pool elevation is allowed to fluctuate between 589.7 feet and 590.0 feet NGVD. The Winfield pool elevation is allowed to fluctuate between 565.8 feet and 566.0 feet NGVD. All three pools can be drawn down at a maximum rate of 0.5 feet per hour. When stream flow exceeds the maximum turbine discharge, the responsibility for control of the pool elevations passes to the Corps' personnel and the projects operate in run-of-release mode.

Appalachian is proposing to modify the maximum pool elevation limit at the London Development from 614.0 feet to 613.7 feet NGVD.

Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

You may also register online at http://www.ferc.gov/docs-filing/esubscription.asp to be notified via email of new filings and issuances related to this or other pending projects. For assistance, contact FERC Online Support.

Procedural Schedule

The application will be processed according to the following preliminary Hydro Licensing Schedule. Revisions to the schedule may be made as appropriate.

Milestone | Target date
Notice of Ready for Environmental Analysis | March 31, 2012.
Filing of recommendations, preliminary terms and conditions, and fishway prescriptions | May 30, 2012.
Commission issues Non-Draft EA | September 27, 2012.
Comments on EA | October 27, 2012.
Modified terms and conditions | December 26, 2012.

Final amendments to the application must be filed with the Commission no later than 30 days from the issuance date of the Notice of Ready for Environmental Analysis.

Dated: February 10, 2012.
Kimberly D. Bose,
Secretary.

[FR Doc. 2012-3664 Filed 2-15-12; 8:45 am]

BILLING CODE 6717-01-P